OFFICE OF SCIENCE AND TECHNOLOGY POLICY

Aeronautics Science and Technology Subcommittee, Committee on Technology, National Science and Technology Council; Notice of Meeting

ACTION: Notice of Meeting—Public Consultation on the National Aeronautics Research and Development Plan and Related Infrastructure Plan.

SUMMARY: The Aeronautics Science and Technology Subcommittee (ASTS) of the National Science and Technology Council's (NSTC) Committee on Technology will hold a public meeting to discuss development of the National Aeronautics Research and Development (R&D) Plan and the related Aeronautics Research, Development, Test and Evaluation (RDT&E) Infrastructure Plan. Executive Order (E.O.) 13419—National Aeronautics Research and Development—signed December 20, 2006, calls for the development of these Plans within one year. The Plans are to be guided by the National Aeronautics R&D Policy that was developed by the NSTC and endorsed by E.O. 13419.

Dates and Addresses: The meeting will be held on Wednesday, July 11, 2007, from 2 p.m. to 4:30 p.m. in room 233 of the Duke Energy Center, 525 Elm Street, Cincinnati, Ohio 45202. Duke Energy Center information is available at the: http://www.duke-energycenter.com/700/mapsdirectionsparking.asp Web site.

Registration is required because seating is limited and will be on a first come, first served basis.

Registration Requests: Registration requests (including your name, address, and phone number) should be submitted to Jon Montgomery, Office of Aerospace and Automotive Industries, Room 4020, U.S. Department of Commerce, 1401 Constitution Avenue, NW., Washington, DC 20230, telephone (202) 482-3353, or e-mail your request to Jon.Montgomery@mail.doc.gov. Registration requests should be submitted no later than 4 p.m. (EST) on Friday, July 6, 2007.

SUPPLEMENTARY INFORMATION: E.O. 13419 and the National Aeronautics R&D Policy call for executive departments and agencies conducting aeronautics R&D to engage industry, academia and other non-Federal stakeholders in support of government planning and performance of aeronautics R&D. At this meeting, ASTS members will discuss the structure and content of the National Aeronautics R&D Plan and related Aeronautics RDT&E Infrastructure Plan. The main purpose of the meeting is to obtain facts and information from individuals on the national aeronautics R&D goals and objectives related to: Mobility; national defense; aviation safety; aviation security; energy and the environment; and, aeronautics research, development, test and evaluation infrastructure.

Additional information and links to E.O. 13419 and the National Aeronautics R&D Policy are available by visiting the Office of Science and Technology Policy's NSTC Web site at: http://www.ostp.gov/nstc/aeroplans or by calling 202-456-6046.

M. David Hodge,
Operations Manager, OSTP.

[FR Doc. E7-11978 Filed 6-19-07; 8:45 am]

BILLING CODE 3170-W7-P